DEPARTMENT OF HEALTH AND HUMAN SERVICES

Health Resources and Services Administration

Community-Based Dental Partnership Program Grant Announcement

AGENCY: Health Resources and Services Administration, HHS.

ACTION: Notice of availability of funds.

SUMMARY: The Health Resources and Services Administration (HRSA) announces the availability of fiscal year (FY) 2002 funds to be awarded under the Ryan White Comprehensive AIDS Resources Emergency (CARE) Act Community-Based Dental Partnership Program for grants that support partnerships between dental education programs and community-based dental providers, to provide oral health care to low income, unserved patients with HIV disease. Grants will be awarded for a 3-year period.

Program Purpose

The goals of the Community-Based Dental Partnership Program are to increase access to oral health care for low-income patients with HIV in areas that remain unserved and to increase the number of dental providers capable of managing the oral health needs of patients with HIV, through community-based service-learning experiences. Eligible applicants must work collaboratively with community-based dental providers (such as community-based or faith-based organizations or private practice dental providers that currently provide or plan to provide oral health services) to address unmet oral health needs of unserved populations with HIV. The documentation of unmet HIV oral health needs or unserved HIV positive populations will be based upon data submitted within the application which includes Statement of Unmet Need, local and other relevant epidemiological data, availability of current HIV health care including oral health services, and a description of proposed population and community to be served.

Program Requirements

The dental education program will be the official grantee of record, but applications must reflect joint efforts and represent collaboration among all partners. As part of the partnership program, applicants will be required to:

(1) document formal written partnership agreements;

(2) provide oral health care through student and resident rotations in community-based dental facilities;

(3) enable the participation of community-based dental providers as adjunct faculty;

(4) provide supervision and training in a clinically-based educational experience for predoctoral students, postdoctoral students and dental residents, and dental hygiene students; and

(5) provide preparatory training to enable students and community-based faculty to provide competent oral health care for patients with HIV.

Eligible Applicants

Accredited dental schools, postdoctoral dental education programs, and dental hygiene education programs in the United States, including Puerto Rico are eligible to participate in the program.

Funding Priorities and/or Preferences

In awarding these grants, preference will be given to applicant partnerships in both rural and urban areas that are currently unserved, especially communities without dental education programs. Eligible applicants are encouraged to collaborate with community-based and/or faith-based organizations that currently provide or plan to provide oral health services.

Authorizing Legislation

The Community-Based Dental Partnership Program is authorized by the Public Health Service (PHS) Act, as amended by Public Law 106-345, the Ryan White CARE Act and Amendments of 2000 (42 U.S. Code 300-71).

Availability of Funds

Approximately $3.5 million is available to fund this initiative. HRSA anticipates funding up to 20 dental education programs for 3 years. The budget and project periods for approved and funded projects will begin on or about September 1, 2002. Continuation awards within the 3-year project period will be made on the basis of progress toward achieving program goals, and the availability of funds.

Application Deadline

Applications are to be submitted via mail to the HRSA Grants Application Center (GAC) on or before close of business June 14, 2002. Applications will meet the deadline if they are either (1) received on or before the deadline date or (2) postmarked on or before the deadline date, and received in time for submission to the objective review panel. A legible dated receipt from a commercial carrier or U.S. Postal Service will be accepted instead of a postmark. Private metered postmarks will not be accepted as proof of timely mailing.

Obtaining Application Guidance and Kit

You may access the program guidance alone on HRSA's Web site at www.hrsa.hab.gov/grants.html.

The official grant application kit and program guidance for this announcement may be obtained from the HRSA Grants Application Center, 901 Russell Avenue, Suite 450, Gaithersburg, MD 20879, Attn: CFDA 93.924; telephone 1-877-477-2234; e-mail address HRSA.GAC@hrsa.gov.

FOR FURTHER INFORMATION CONTACT: Additional information related to the program may be requested by contacting the Program Development Branch, Division of Community-Based Programs, HIV/AIDS Bureau, Health Resources and Services Administration; telephone (301) 443-2177.

Dated: April 12, 2002.
Elizabeth M. Duke,
Administrator.

[FR Doc. 02-9617 Filed 4-18-02; 8:45 am]

BILLING CODE 4165-15-P